GENERAL SERVICES ADMINISTRATION

[Notice-MG-2020-03; Docket No. 2020-0002; Sequence No. 19]

Office of Federal High-Performance Buildings; Green Building Advisory Committee; Updated Notification of Upcoming Meeting

AGENCY: Office of Government-wide Policy, General Services Administration (GSA).

ACTION: Updated meeting notice.

SUMMARY: The General Services Administration (GSA) Office of Federal High-Performance Buildings within the Office of Government-wide Policy is announcing amendments to notice Notice-MG-2020-02, dated January 15, 2020. The public meeting originally announced as an in-person meeting for June 11, 2020, will now be held solely via Web conference.

DATES: The public meeting originally announced for June 11, 2020 will be held via Web conference on a slightly revised schedule, from 11 a.m. to 3:30 p.m. Eastern Time (ET).

June 11, 2020 Updated Meeting Agenda

• Updates and introductions

• Renewable energy outleasing task group findings & recommendations

• Embodied energy task group findings & recommendations

• Additional topics proposed by Committee members

• Public comment

• Next steps and closing comments

FOR FURTHER INFORMATION CONTACT: Mr. Ken Sandler, Designated Federal Officer, Office of Federal High-Performance Buildings, Office of Government-wide Policy, General Services Administration, 1800 F Street NW, (Mail-code: MG), Washington, DC 20405, at ken.sandler@gsa.gov. Additional information about the Committee is available on-line at http://www.gsa.gov/gbac.

SUPPLEMENTARY INFORMATION:

Procedures for Attendance and Public Comment

Contact Mr. Ken Sandler at ken.sandler@gsa.gov to register to attend the Web meeting. To attend, submit your full name, organization, email address, and phone number. (GSA is unable to provide technical assistance to any listener experiencing technical difficulties. Testing access to the Web meeting site before the calls is recommended.) Requests to attend the June 11, 2020 meeting must be received by 5:00 p.m., ET, on June 8, 2020.

Kevin Kampschroer,
Federal Director, Office of Federal High-Performance Buildings, General Services Administration.

[FR Doc. 2020-11629 Filed 5-29-20; 8:45 am]

BILLING CODE 6820-14-P